DEPARTMENT OF THE INTERIOR

Fish and Wildlife Service

[Docket No. FWS-HQ-ES-2023-0148; FF09E42000-FXES111609BFEDR-245]

John H. Chafee Coastal Barrier Resources System; Availability of Final Revised Maps for Florida, Georgia, Louisiana, Maine, and New York

AGENCY: Fish and Wildlife Service, Interior.

ACTION: Notice of availability.

SUMMARY: The Coastal Barrier Resources Act requires the Secretary of the Interior to review the maps of the John H. Chafee Coastal Barrier Resources System (CBRS) at least once every 5 years and make any minor and technical modifications to the boundaries of the CBRS to reflect changes in the size or location of any unit as a result of natural forces since the unit was last mapped. We, the U.S. Fish and Wildlife Service, have conducted this review for CBRS units in Florida, Georgia, Louisiana, Maine, and the Great Lakes region of New York. This notice announces the findings of our review and the availability of final revised maps for 89 CBRS units in these five States.

DATES: Changes to the CBRS depicted on the final revised maps, dated December 29, 2023, become effective on December 19, 2024.

ADDRESSES: For information about how to get copies of the maps or where to go to view them, see Availability of Final Maps and Related Information, below.

FOR FURTHER INFORMATION CONTACT: Katie Niemi, Coastal Barriers Coordinator, via telephone at 703-358-2071 or email at CBRA@fws.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION:

Background and Methodology

Background information on the Coastal Barrier Resources Act (CBRA; 16 U.S.C. 3501 et seq.) and the John H. Chafee Coastal Barrier Resources System (CBRS), as well as information on the 5-year review effort and the methodology we used to produce the revised maps, can be found in a notice we published in the Federal Register on November 22, 2022 (87 FR 71352).

Announced Map Modifications

This notice announces modifications we made to the maps for several CBRS units in Florida, Georgia, Louisiana, Maine, and the Great Lakes region of New York. Most of these modifications were made to reflect changes to the CBRS units as a result of natural forces (e.g., erosion and accretion). CBRA requires the Secretary of the Interior to review the maps of the CBRS at least once every 5 years and make, in consultation with the appropriate Federal, State, and local officials (stakeholders), such minor and technical modifications to the boundaries of the CBRS as are necessary solely to reflect changes that have occurred in the size or location of any unit as a result of natural forces (16 U.S.C. 3503(c)).

Our review resulted in a set of 85 final revised maps, dated December 29, 2023, depicting a total of 89 CBRS units. This review included:

• Six of the 137 total units located in Florida (depicted on 2 final maps)

• All 13 units located in Georgia (depicted on 16 final maps)

• Fifteen of the 21 total units located in Louisiana (depicted on 34 final maps)

• All 34 units located in Maine (depicted on 19 final maps)

• All 21 units located in the Great Lakes region of New York (depicted on 14 final maps)

We made modifications to a total of 13 units (of the 89 total units reviewed) due to natural changes in their size or location since they were last mapped. We also revised two CBRS units to correct administrative errors made in the past on maps for Lee County, Florida.

Consultation With Federal, State, and Local Officials

We fulfilled the requirement to consult with stakeholders by holding a 30-day comment period on the draft revised boundaries from November 3, 2023, through December 4, 2023 (88 FR 75621).

We notified approximately 220 stakeholders concerning the availability of the draft revised boundaries, including: (1) the Chair and Ranking Member of the House of Representatives Committee on Natural Resources, the Chair and Ranking Member of the Senate Committee on Environment and Public Works, and the members of the Senate and House of Representatives for the affected areas; (2) the governors of the affected areas; (3) State and local officials with floodplain management and/or land use responsibilities; and (4) Federal officials with knowledge of the coastal geomorphology within the project area.

We reviewed and considered all comments prior to developing the final maps. Summaries of the two written comments we received, and our responses are provided below. We indicated in our response to comments those that were outside of the scope of the 5-year review.

Interested parties may view the comments at https://www.regulations.gov under Docket No. FWS-HQ-ES-2023-0148 or may contact the individual identified in FOR FURTHER INFORMATION CONTACT, above, to make arrangements to view copies of the comments.

A. Comment from Buffalo District, U.S. Army Corps of Engineers (Corps): The Corps' Buffalo District commented on Unit NY-62, which is the only unit in the Great Lakes region of New York with a proposed change. They stated that the proposed change is not anticipated to result in any impact to navigation, and they had no other comments.

Our Response: We appreciate the assessment that the proposed change is not anticipated to result in any impact to navigation.

B. Comment from Jacksonville District, Corps: The Corps' Jacksonville District raised concerns, questions, and recommendations regarding the 5-year review process affecting the six Florida units included in this review. Additionally, the Jacksonville District raised some challenges Corps projects have faced where they assert CBRA is having unintended effects in areas adjacent to CBRS units. However, they did not request any specific boundary changes to the units that are the subject of this review. The issues raised are described below.

1. Comment: The Jacksonville Corps expressed concern that this 5-year review project focused on units most likely to have changed due to significant recent storm events and asked how we select the units to assess in the 5-year review. The Corps asked when the remaining units in Florida will be reviewed, and recommended that additional Florida units be addressed before another 5 years pass.

Our Response: We generally prioritize our 5-year review for the CBRS maps based on (a) the age of the current effective maps, (b) the availability of recent high-resolution aerial photography (according to the anticipated U.S. Department of Agriculture National Agriculture Imagery Program acquisition schedule), and (c) where possible, avoiding overlaps of 5-year review projects in States where we also have pending comprehensive map-modernization projects.

However, in this instance, we prioritized the review of Florida Units P19 and P19P in 2023 when we became aware of administrative errors affecting these units (see Summary of Modifications to the CBRS Maps below for additional information). We included four additional Florida units in this review because they are depicted on the same map panels as Units P19 and P19P. We have separate comprehensive remapping projects in process for 35 of the 137 total CBRS units in Florida, and these projects will address minor boundary modifications needed to account for natural changes in the units, as well as significant changes that require public review and adoption by Congress, such as additions and removals.

We intend to conduct 5-year reviews by the end of FY 2027 for all the remaining CBRS units that do not have comprehensive remapping projects in process or planned for the near future (including most of the units in Florida). If the Corps believes specific areas need a 5-year review boundary modification to account for natural changes in the location of the feature that boundary is intended to follow, those may be emailed to us for our awareness at any time at cbra@fws.gov.

2. Comment: The Jacksonville Corps asked when the comprehensive remapping process would be initiated to address the misalignments in the CBRS boundaries attributed to imprecise information regarding parcel locations at the time the maps were produced (i.e., Units P19 and P19P and the boundaries of Cayo Costa State Park). They also asked how we will coordinate input from stakeholders such as the Corps and recommended that this remapping process occur in the near future.

Our Response: In the notice published in the Federal Register on November 3, 2023, we identified a need to address (through the comprehensive remapping process) significant misalignments in the locations of the Units P19 and P19P boundaries and the Cayo Costa State Park parcels they were intended to follow. This type of change is outside of the scope of the 5-year review mapping process, which allows only such minor and technical modifications to the boundaries of the units as are necessary solely to reflect changes that have occurred in the size or location of the units as a result of natural forces. We do not currently have a comprehensive remapping project scheduled for these units. When we address these units through a separate project in the future, we will notify a broad array of stakeholders (including the affected Corps Districts and Divisions) of the opportunity to provide comments through a public review period.

3. Comment: The Jacksonville Corps noted that our review only considered changes due to natural forces and recommended that we also consider how much development has occurred since establishment of the unit and potential sea-level rise.

Our Response: It is outside of the scope of the 5-year review to consider how much development has occurred since establishment of the unit and potential sea-level rise. The 5-year review allows only such minor and technical modifications to the boundaries of the units as are necessary solely to reflect changes that have occurred in the size or location of the units as a result of natural forces.

4. Comment: The Jacksonville Corps noted that CBRA does not account for future sea-level and coastal-storm-risk damages to cultural/historical resources, and that structural features may be required to provide protection for those resources. The Corps recommended that this could be addressed through an exemption.

Our Response: This comment is outside of the scope of the 5-year review.

5. Comment: The Jacksonville Corps stated that the CBRS does not account for the Executive Orders on environmental justice (EJ), which provide resiliency for coastal communities and/or EJ communities, and that structural features may be required to provide protection for EJ communities. The Corps recommended that this could be addressed through an exemption.

Our Response: This comment is outside of the scope of the 5-year review.

6. Comment: The Jacksonville Corps expressed concern that many existing CBRS unit boundaries present significant and likely unintended constraints on Federal expenditures where the project would not result in promoting new development (i.e., in the open water/seaward portions of the units and in existing sugar-cane fields). The Corps requested that we work with them to identify, review, and revise these units using updated geospatial technology and sea-level considerations.

Our Response: This comment is outside of the scope of the 5-year review.

No Changes to Draft Boundaries

We made no changes to the boundaries as a result of the stakeholder comments received. The CBRS boundaries depicted on the final revised maps, dated December 29, 2023, are identical to those that we made available for stakeholder review and displayed in a web mapping application on our website.

Summary of Modifications to the CBRS Maps

Below is a summary of the changes depicted on the final revised maps of December 29, 2023.

Florida

Our review found that five of the six CBRS units in Florida included in this review (Units FL-70, FL-70P, P19, P19P, P20, and P20P) required changes due to natural forces. In addition, we modified two units in Florida, P19 and P19P, to correct administrative errors affecting four privately owned structures. The imagery that we used for this review and the revised maps is from Lee County and is dated 2022. We also used 2021 National Agriculture Imagery Program imagery for adjacent areas. We did not assess any other CBRS units in Florida as part of this review (see the above response to comments from the Corps' Jacksonville District for additional information).

FL-70P: GASPARILLA ISLAND. Unit FL-70P has two discrete segments, but modifications to account for natural changes were only necessary in the western segment. We modified the western boundary of the excluded area of this segment to account for natural changes in the shoreline between the Boca Grande Rear Range Lighthouse and Sea Grape Beach.

P19: NORTH CAPTIVA ISLAND. We modified the boundary along the western side of North Captiva Island that is coincident with the northernmost segment of Unit P19P to account for natural changes in the shoreline along the Gulf of Mexico. We also modified the excluded area boundary at the northern tip of North Captiva Island to account for natural changes in the shoreline along the Gulf of Mexico and Captiva Pass.

In addition, we modified two segments of the boundary along the excluded area to correct an administrative error made during the previous 5-year review for this unit that affected three existing structures; these structures are now removed from the unit. We had previously modified that boundary in 2016 to account for natural changes in the shoreline. However, we did not describe that boundary modification in the Federal Register notices associated with this unit dated November 17, 2015 (80 FR 71826), and March 14, 2016 (81 FR 13407). The 2016 boundary change inadvertently added to the unit three existing structures along the beach in the North Captiva Dunes subdivision.

The misalignment of the coincident boundaries of Units P19 and P19P with Cayo Costa State Park, which we did not correct because it is outside of the scope of the 5-year review, is described in a notice we published in the Federal Register on November 3, 2023.

P19P: NORTH CAPTIVA ISLAND. Unit P19P has 15 discrete segments that are all coincident with Unit P19. In the northernmost segment of Unit P19P, we modified the western boundary coincident with Unit P19 to account for natural changes in the shoreline along the Gulf of Mexico.

Additionally, we made an adjustment to correct an administrative error in the transcription of the boundary from the CBRS map dated October 27, 2000, to the map dated January 11, 2016, for this unit. We found that when we digitized the southern boundary of the excluded area on North Captiva Island for the purposes of the 5-year review in 2015-2016, we did not properly follow the boundary transcription methodology described in the notice published in the Federal Register (August 29, 2013; 78 FR 53467).

This transcription error resulted in small portions of six privately owned parcels, including one existing structure, being incorrectly depicted as within the unit in 2016. We adjusted the southern boundary of the excluded area (part of the northern boundary of Unit P19P) to correct this error and maintain the relationship between the boundary of Unit P19P and the boundary of Cayo Costa State Park, as established by Congress via Pub. L. 106-360 in 2000 and clearly indicated by legislative history and our background records on Unit P19P.

The misalignment of the coincident boundaries of Units P19 and P19P with Cayo Costa State Park, which we did not correct because it is outside of the scope of the 5-year review, is described in a notice we published in the Federal Register on November 3, 2023.

P20: CAYO COSTA. We modified the coincident boundary between Units P20 and P20P at the northern tip of Cayo Costa to account for natural changes in the shoreline along Boca Grande Pass.

P20P: CAYO COSTA. Unit P20P has 13 discrete segments, but modifications to account for natural changes were only necessary in the northernmost segment. We modified the coincident boundary between Units P20 and P20P at the northern tip of Cayo Costa to account for natural changes in the shoreline along Boca Grande Pass.

Georgia

Our review found that 4 of the 13 CBRS units in Georgia require changes due to natural forces. The imagery that we used for this review and the revised maps is dated 2021.

GA-05P: ALTAMAHA/WOLF ISLANDS. We modified the coincident boundary between Units GA-05P and N03 to account for accretion at the northern tip of Little St. Simons Island.

N03: LITTLE ST. SIMONS ISLAND. We modified the coincident boundary between Units GA-05P and N03 to account for accretion at the northern tip of Little St. Simons Island.

N06: CUMBERLAND ISLAND. Unit N06 has five discrete segments, but modifications to account for natural changes were only necessary in the southernmost segment. We modified the coincident boundary between Units N06 and N06P along Beach Creek near its confluence with Cumberland Sound to account for natural changes in the shoreline.

N06P: CUMBERLAND ISLAND. Unit N06P has six discrete segments, but modifications to account for natural changes were only necessary in the southernmost segment. We modified the coincident boundary between Units N06 and N06P along Beach Creek near its confluence with Cumberland Sound to account for natural changes in the shoreline.

Louisiana

Our review found that 3 of the 15 CBRS units in Louisiana that were included in this review (Units LA-03P, LA-04P, LA-05P, LA-07, LA-08P, LA-09, LA-10, S01, S01A, S02, S03, S08, S09, S10, and S11) required changes due to natural forces. The imagery that we used for this review and the revised maps is dated 2021.

We did not assess the remaining six Louisiana units as part of this review because we prepared revised maps for them through a separate comprehensive mapping project. We transmitted those maps to Congress in 2016, and they were awaiting adoption through legislation at the time we conducted our review. The revised maps for the remaining six units were adopted by Pub. L. 118-117 on November 25, 2024.

LA-05P: MARSH ISLAND/RAINEY. We modified the boundary of the unit to account for wetland erosion along Vermilion Bay and West Cote Blanche Bay. Due to the significant rate of erosion in this area, we generalized some of the boundary (i.e., simplified it so that the map is clear, and the boundary is not overly detailed).

LA-10: CALCASIEU PASS. We modified a portion of the northern boundary of the unit to account for wetland erosion along West Cove. Due to the significant rate of erosion in this area, we generalized some of the boundary (i.e., simplified it so that the map is clear, and the boundary is not overly detailed).

S10: MERMENTAU RIVER. We modified the southern boundary of the excluded area at the western end of the unit to account for shoreline erosion along the Gulf of Mexico.

Maine

Our review found that none of the 34 CBRS units in Maine need to be modified due to changes from natural forces. The imagery that we used for this review and the revised maps is dated 2021.

New York (Great Lakes)

Our review found that 1 of the 21 CBRS units in the Great Lakes region of New York (the only CBRS units in New York that were part of this review) required changes due to natural forces. The imagery that we used for this review and the revised maps is dated 2022.

We did not assess the CBRS units in the Long Island region of New York as part of this review because we prepared revised maps for them through a separate comprehensive mapping project. We transmitted those maps to Congress in 2022, and they were awaiting adoption through legislation at the time we conducted our review. The revised maps for the remaining six units were adopted by Public Law 118-117 on November 25, 2024.

NY-62: GRENADIER ISLAND. We modified the eastern lateral boundary of the unit to account for the accretion of a sand spit that has migrated outside the unit.

Availability of Final Maps and Related Information

The final revised maps dated December 29, 2023, can be accessed and downloaded from our website at https://www.fws.gov/cbra. The boundaries are available for viewing in the CBRS Mapper. Additionally, a shapefile and Web Map Service (WMS) of the boundaries, which can be used with GIS software, are available online. These data are best viewed using the base imagery to which the boundaries were drawn; the base imagery sources and dates are included in the metadata for the digital boundaries and are also printed on the official maps. We are not responsible for any misuse or misinterpretation of the shapefile or WMS.

Interested parties may also contact the individual identified in FOR FURTHER INFORMATION CONTACT, above, to make arrangements to view the final maps at our Headquarters office. Interested parties who are unable to access the maps via the website or at our Headquarters office may contact the individual identified in FOR FURTHER INFORMATION CONTACT, above, and reasonable accommodations will be made.

Authority

Coastal Barrier Resources Act (CBRA; 16 U.S.C. 3501 et seq.).

Ya-Wei Li,
Assistant Director for Ecological Services.

[FR Doc. 2024-29644 Filed 12-18-24; 8:45 am]

BILLING CODE 4333-15-P